DEPARTMENT OF HEALTH AND HUMAN SERVICES

Substance Abuse and Mental Health Services Administration

Suspension of Application Receipt Dates for a Fiscal Year (FY) 2004 Funding Opportunity

AGENCY: Center For Mental Health Services (CMHS), Center For Substance Abuse Prevention (CSAP), and Center For Substance Abuse Treatment (CSAT), Substance Abuse and Mental Health Services Administration (SAMHSA), HHS.

ACTION: Suspension of future application receipt dates until further notice for SAMHSA/CMHS, CSAP, and CSAT Knowledge Dissemination Conference Grants (PA 03-002).

SUMMARY: This notice is to inform the public that future application receipt dates under the SAMHSA/CMHS, CSAP, and CSAT program announcement, Knowledge Dissemination Conference Grants—PA 03-002, are being cancelled until further notice. Effective as of January 13, 2004, no applications will be received for the future September 10 and January 10 receipt dates under this announcement.

The notice of funding opportunity for PA 03-002 was published in the Federal Register on November 12, 2002, (Vol. 67, Number 218, pages 68676-68677).

SAMHSA/CMHS, CSAP, and CSAT will be reissuing the Knowledge Dissemination Conference Grants announcement for FY 2004.

Information related to this notice may be obtained from:

For questions concerning mental health topics, contact: David Morrissette, DSW, Center for Mental Health Services/SAMHSA, 5600 Fishers Lane, Room 11C-22, Rockville, MD 20857, Phone: (301) 443-3653, E-Mail: dmorriss@samhsa.gov.

For questions regarding substance abuse treatment topics, contact: Kim Plavsic, Center for Substance Abuse Treatment/SAMHSA, 5515 Security Lane, Suite 740, Rockville, MD 20852, Phone: (301) 443-7916, E-Mail: kplavsic@samhsa.gov.

For questions concerning substance abuse prevention topics, contact: Rosa I. Merello, Center for Substance Abuse Prevention/SAMHSA, 5515 Security Lane, Suite 800, Rockville, MD 20852, Phone: (301) 443-7462, E-Mail: rmerello@samhsa.gov.

For questions on grants management issues, contact: Kathleen Sample, Division of Grants Management, SAMHSA, Rockwall II, Room 630, 5600 Fishers Lane, Rockville, MD 20857, (301) 443-9667, E-mail: ksample@samhsa.gov.

Dated: January 13, 2004.
Daryl Kade,
Director, Office of Policy, Planning and Budget, Substance Abuse and Mental Health Services Administration.

[FR Doc. 04-1151 Filed 1-20-04; 8:45 am]

BILLING CODE 4162-20-P